DEPARTMENT OF DEFENSE

Defense Acquisition Regulations System

[Docket Number DARS-2013-0036]

Information Collection Requirement; Defense Federal Acquisition Regulation Supplement; Foreign Acquisition

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through January 31, 2014. DoD proposes that OMB extend its approval for use for three additional years.

DATES: DoD will consider all comments received by December 23, 2013.

ADDRESSES: You may submit comments, identified by OMB Control Number 0704-0229, using any of the following methods:

○ Federal eRulemaking Portal: http://www.regulations.gov. Follow the instructions for submitting comments.

○ Email: dfars@osd.mil. Include OMB Control Number 0704-229 in the subject line of the message.

○ Fax: (571) 372-6094.

○ Mail: Defense Acquisition Regulations System, Attn: Amy Williams, OUSD(AT&L)DPAP(DARS), 3060 Defense Pentagon, Room 3B855, Washington, DC 20301-3060.

Comments received generally will be posted without change to http://www.regulations.gov, including any personal information provided.

FOR FURTHER INFORMATION CONTACT: Ms. Amy Williams, (571) 372-6106. The information collection requirements addressed in this notice are available on the World Wide Web at: http://www.acq.osd.mil/dpap/dars/dfars/index.htm. Paper copies are available from Ms. Amy Williams, OUSD(AT&L)DPAP(DARS), 3060, Room 3B855, Defense Pentagon, Washington, DC 20301-30602.

SUPPLEMENTARY INFORMATION:

Title, Associated Form, and OMB Number: Foreign Acquisition—Defense Federal Acquisition Regulation Supplement Part 225 and Related Clauses at 252.225; DD Form 2139; OMB Control Number 0704-0229.

Needs and Uses: DoD needs this information to ensure compliance with restrictions on the acquisition of foreign products imposed by statute or policy to protect the industrial base; to ensure compliance with U.S. trade agreements and memoranda of understanding that promote reciprocal trade with U.S. allies; and to prepare reports for submission to the Department of Commerce on the Balance of Payments Program.

Affected Public: Businesses or other for-profit and not-for-profit institutions.

Annual Burden Hours: 64,256 (64,161 reporting hours and 95 recordkeeping hours).

Number of Respondents: 23,197.

Responses per Respondent: 9.01.

Annual Responses: 209,117.

Average Burden per Response: .31 hours.

Frequency: On occasion.

Summary of Information Collection

This information collection includes requirements related to foreign acquisition in DFARS Part 225, Foreign Acquisition, and the related clause at DFARS 252.225.

DFARS 252.225-7000, Buy American Act—Balance of Payments Program Certificate, as prescribed in 225.1101(1), requires an offeror to identify, in its proposal, supplies that are not domestic end products, separately listing qualifying country and other foreign end products.

DFARS 252.225-7003, Report of Intended Performance Outside the United States and Canada—Submission with Offer, and 252.225-7004, Report of Intended Performance Outside the United States and Canada—Submission after Award, as prescribed in 225.7204(a) and (b) respectively, require offerors and contractors to submit a Report of Contract Performance Outside the United States for subcontracts to be performed outside the United States. The reporting threshold is $550,000 for contracts that exceed $11.5 million. The contractor may submit the report on DD Form 2139, Report of Contract Performance Outside the United States, or a computer-generated report that contains all information required by DD Form 2139.

DFARS 252.225-7005, Identification of Expenditures in the United States, as prescribed in 225.1103(1), requires contractors incorporated or located in the United States to identify, on each request for payment under contracts for supplies to be used, or for construction or services to be performed, outside the United States, that part of the requested payment representing estimated expenditures in the United States.

DFARS 252.225-7006, Quarterly Reporting of Actual Contract Performance Outside the United States, as prescribed at 252.7204(c) for use in solicitations and contracts with a value exceeding $550,000, requires reporting of subcontracts that exceed the simplified acquisition threshold.

DFARS 252.225-7010, Commercial Derivative Military Article—Specialty Metals Compliance Certificate, as prescribed at 225.7003-5(b), requires the offeror to certify that it will take certain actions with regard to specialty metals if the offeror chooses to use the alternative compliance approach when providing commercial derivative military articles to the Government.

DFARS 252.225-7013, Duty-Free Entry, as prescribed in 225.1101(4), requires the contractor to provide information on shipping documents and customs forms regarding products that are eligible for duty-free entry.

DFARS 252.225-7018, Photovoltaic Devices—Certificate, as prescribed at 225.7017-4(b), requires offerors to certify that no photovoltaic devices with an estimated value exceeding $3,000 will be utilized in performance of the contract or to specify the country of origin.

DFARS 252.225-7020, Trade Agreements Certificate, as prescribed in 225.1101(5), requires an offeror to list the item number and country of origin of any nondesignated country end product that it intends to furnish under the contract. Either 252.225-7020 or 252.225-7022 is used in any solicitation for products subject to the World Trade Organization Government Procurement Agreement.

DFARS 252.225-7021, Alternate II, Trade Agreements, as prescribed in 225.1101(6)(ii), in order to comply with a condition of the waiver authority provided by the United States Trade Representative to the Secretary of Defense, requires contractors from a south Caucasus/central or south Asian state to inform the government of its participation in the acquisition and also advise their governments that they generally will not have such opportunities in the future unless their governments provide reciprocal procurement opportunities to U.S. products and services and suppliers of such products and services.

DFARS 252.225-7023, Preference for Products or Services from Afghanistan, as prescribed in 225.7703-5(a), requires an offeror to identify, in its proposal, products or services that are not products or services from Iraq or Afghanistan.

DFARS 252.225-7025, Restriction on Acquisition of Forgings, as prescribed in 225.7102-4, requires the contractor to retain records showing compliance with the requirement that end items and their components delivered under the contract contain forging items that are of domestic manufacture only. The contractor must retain the records for 3 years after final payment and must make the records available upon request of the contracting officer. The contractor may request a waiver of this requirement in accordance with DFARS 225.7102-3.

DFARS 252.225-7032, Waiver of United Kingdom Levies—Evaluation of Offers, and 252.225-7033, Waiver of United Kingdom Levies, as prescribed in 225.1101(7) and (8), require an offeror to provide information to the contracting officer regarding any United Kingdom levies included in the offered price, and require the contractor to provide information to the contracting officer regarding any United Kingdom levies to be included in a subcontract that exceeds $1 million, before award of the subcontract.

DFARS 252.225-7035, Buy American Act—North American Free Trade Agreement Implementation Act—Balance of Payments Program Certificate, as prescribed in 225.1101(9), requires an offeror to list any qualifying country, NAFTA country, or other foreign end product that it intends to furnish under the contract. The Buy American Act no longer applies to acquisitions of commercial information technology.

DFARS 252.225-7046, Exports of Approved Community Members in Response to the Solicitation, requires a representation whether exports or transfers of qualifying defense articles were made in preparing the response to the solicitation. If yes, the offeror represents that such exports or transfers complied with the requirements of the provision.

Manuel Quinones,
Editor, Defense Acquisition Regulations System.

[FR Doc. 2013-25024 Filed 10-23-13; 8:45 am]

BILLING CODE 5001-06-P